DEPARTMENT OF TRANSPORTATION

Office of the Secretary

49 CFR Part 71

[OST Docket No. 2006-26442]

RIN 2105-AD65

Standard Time Zone Boundary in Pulaski County, IN

AGENCY: Office of the Secretary (OST), the Department of Transportation (DOT).

ACTION: Final rule.

SUMMARY: DOT is relocating the time zone boundary in Indiana to move Pulaski County, Indiana, from the Central Time Zone to the Eastern Time Zone. This action serves the convenience of commerce, the statutory standard for a time zone change, and is taken in response to a petition filed by the Pulaski County Commissioners and County Council.

DATES: The effective date of this rule is 2 a.m. CST, Sunday, March 11, 2007, which is the changeover date from standard time to daylight saving time.

FOR FURTHER INFORMATION CONTACT: Judith S. Kaleta, Office of the General Counsel, U.S. Department of Transportation, Room 10428, 400 Seventh Street, SW., Washington, DC. 20590, indianatime@dot.gov; (202) 366-9283.

SUPPLEMENTARY INFORMATION:

Current Indiana Time Observance

Indiana is divided into 92 counties. Under Federal law, 74 Indiana counties are in the Eastern Time Zone and 18 are in the Central Time Zone. The Central Time Zone counties include seven in the northwest (Lake, Porter, La Porte, Starke, Newton, Jasper, and Pulaski) and eleven in the southwest (Knox, Daviess, Martin, Gibson, Pike, Dubois, Posey, Vanderburgh, Warrick, Spencer, and Perry). The remaining 74 counties are in the Eastern Time Zone. The entire State began to observe daylight saving time in 2006. Neighboring States observe both Eastern and Central time. Illinois and western Kentucky observe Central time, while eastern Kentucky, Ohio, and the portion of Michigan adjoining Indiana observe Eastern time.

In January 2006, DOT completed a rulemaking proceeding establishing new time zone boundaries that resulted in the current time zone observance. In that rulemaking in response to a petition from Pulaski County as well as other Indiana counties, the County was moved to the Central Time Zone. Pulaski County is bordered to the north and west by counties in the Central Time Zone and to the south and east by counties in the Eastern Time Zone. In February 2006, Pulaski County filed a Petition requesting a time zone change back to the Eastern Time Zone, and subsequently filed an Amended Petition.

In August 2006, Knox, Daviess, Martin, Pike, and Dubois Counties in Southwestern Indiana (the Southwestern Counties) filed a Joint Petition for a Time Zone Change (Joint Petition). This Final Rule addresses only Pulaski County. DOT is evaluating the Joint Petition and supplemental information from the Southwestern Counties before making a determination whether to propose a time zone change or deny the Joint Petition.

Statutory Requirements

Under the Standard Time Act of 1918, as amended by the Uniform Time Act of 1966 (15 U.S.C. 260-64), the Secretary of Transportation has authority to issue regulations modifying the boundaries between time zones in the United States in order to move an area from one time zone to another. The standard in the statute for such decisions is “regard for the convenience of commerce and the existing junction points and division points of common carriers engaged in interstate or foreign commerce.”

DOT Procedures To Change a Time Zone Boundary

DOT has typically used a set of procedures to address time zone issues. Under these procedures, DOT will generally begin a rulemaking proceeding to change a time zone boundary if the highest elected officials in the area provide adequate supporting data for the proposed change. We ask that the petition include, or be accompanied by, detailed information supporting the requesting party's contention that the requested change would serve the convenience of commerce. The principal standard for deciding whether to change a time zone is defined very broadly to include consideration of all the impacts upon a community of a change in its standard of time. We also ask that the supporting documentation address, at a minimum, each of the following questions in as much detail as possible.

1. From where do businesses in the community get their supplies, and to where do they ship their goods or products?

2. From where does the community receive television and radio broadcasts?

3. Where are the newspapers published that serve the community?

4. From where does the community get its bus and passenger rail services; if there is no scheduled bus or passenger rail service in the community, to where must residents go to obtain these services?

5. Where is the nearest airport; if it is a local service airport, to what major airport does it carry passengers?

6. What percentage of residents of the community work outside the community; where do these residents work?

7. What are the major elements of the community's economy; is the community's economy improving or declining; what Federal, State, or local plans, if any, are there for economic development in the community?

8. If residents leave the community for schooling, recreation, health care, or religious worship, what standard of time is observed in the places where they go for these purposes?

In addition, we consider any other information that the county or local officials believe to be relevant to the proceeding. We consider the effect on economic, cultural, social, and civic activities, and how a change in time zone would affect businesses, communication, transportation, and education.

2005-2006 Time Zone Rulemaking Proceedings

On August 17, 2005, DOT published a notice in the Federal Register inviting county and local officials in Indiana that wished to change their current time zone in response to legislation adopted by the Indiana legislature (Pub. L. 243-005), to notify DOT of their request for a change by September 16, 2005 and to provide data in response to the questions above. In addition, DOT announced the opening of an internet-accessible, public docket to receive any petitions and other relevant documents concerning the appropriate placement of the time zone boundary in the State of Indiana.

Pulaski County was one of nineteen counties that petitioned for a change. Pulaski County is located in Northwestern Indiana, 95 miles from both Chicago and Indianapolis and 60 miles from both South Bend and Lafayette. It has a population of 13,783. According to “Key Economic Development Statistics,” prepared for the Pulaski County Community Development Commission, dated January 6, 2004, “Although the agricultural heritage of Pulaski County is very strong, the fact remains that 83% of all employment is created in non-agricultural opportunities.”

The Pulaski County Commissioners submitted a petition (original petition) for a time zone change in which they enumerated reasons for a move to the Central Time Zone based on comments made during an open public meeting. The County Commissioners commented that, at that open public meeting, “There were no citizens who were in favor of Eastern. All were in favor of leaving the time alone, by not having to change time during the year. But, if we have to choose one of the two, the choice would be Central Time.” The Pulaski County Commissioners also noted the consideration of school children waiting during a late sunrise, the importance of sunlight to its farming community, television programming from South Bend and Chicago, newspapers from Indianapolis, South Bend, Logansport, and Chicago, and airports in Indianapolis and Chicago. In addition, the County Commissioners submitted annual commuting data in support of their position.

On October 31, 2005, DOT published a Notice of Proposed Rulemaking (70 FR 6228), tentatively proposing to relocate the time zone boundary in Indiana to move the time zone boundaries for several counties, but not Pulaski County. However, the notice stated that if we received additional information supporting a time zone change, we would make the change at the final rule stage of the proceeding.

On November 15, 2005, at a public hearing conducted by DOT in Logansport, Indiana, the Director of the Pulaski Community Development Commission presented information from the two major employers in the County who favored the Central Time Zone as well as from other employers. The President of the Pulaski County Council also spoke in favor of the Pulaski County petition; he noted the difficulty of being a border county and suggested that the entire state be in the same time zone. In written comments to the docket, one commenter noted that Pulaski County has regional ties to counties that are currently in the Central Time Zone or would be moved to the Central Time Zone by DOT's decision. He referred to workforce planning, economic growth, and economic development regions and said that moving Pulaski to the Central Time Zone would ensure that all counties in these regions were in the same time zone.

There were 71 comments submitted to the docket from Pulaski County. Of these comments, 41 favored the Central Time Zone, 17 favored the Eastern Time Zone, and 13 expressed interest in keeping Indiana on the same time zone, expressing no preference.

Based on the petition, comments at the hearing, and comments to the docket, Pulaski County was one of the eight counties that DOT moved from the Eastern Time Zone to the Central Time Zone under the January 2006 final rule (71 FR 3228). The final rule was to be effective on April 2, 2006.

On February 7, 2006, Pulaski County petitioned DOT for a time zone boundary change back to the Eastern Time Zone. The new petition followed DOT's final rule by only a few weeks and was submitted before the County had any experience with the new time zone changes that it had solicited. Furthermore, the new petition requested a change that was contrary to the County's original petition. The new petition stated that the original petition “was made with an understanding that our neighboring counties were favoring the same Zone of Central Time.” In addition, the new petition was also contrary to information submitted to the docket in the rulemaking proceeding. In fact, the County Commissioners represented that they did not provide accurate information in their original two-page petition. The new six-page petition provided various reasons for a time zone change, but did not provide detailed information in support of its new position or the sources for the new information submitted. Therefore, before making any determination on changing the time zone boundary for Pulaski County, in a May 22, 2006, letter, DOT reminded the County officials of the legal requirements for a time zone change and asked for an explanation of the contradictions between the original petition and the new petition. DOT also requested information, and the sources of the information, from Pulaski County to assist DOT in making a careful assessment on the appropriate time zone for the County consistent with Federal requirements.

On June 27, 2006, Pulaski County submitted an Amended Petition that included answers to the questions DOT considers in making time zone determinations and exhibits in support of the answers. The Amended Petition repeatedly stated that the information set forth in the original petition in response to DOT's time zone questions “is limited, and opinion without substantial and verifiable evidence to support the claims made.” The Amended Petition provided detailed responses to DOT's questions related to community imports and exports, television and radio broadcasts, newspapers, bus and passenger rail services, airports/airline services, worker commuting patterns, the community's economy/economic development, and schooling, recreation, health care, and religious worship. These responses were significantly more detailed than the information contained in the original petition or the February 7, 2006, petition, and provided the source of the information.

In August 2006, Indiana Governor Daniels, the Indiana Economic Development Corporation, and the Indiana Department of Workforce Development submitted letters to the docket. The Governor supported the Amended Petition (as well as the Joint Petition filed by the Southwestern Counties), stating that putting more of the State on the same time zone would provide clarity on the time questions and advance economic growth. The two organizations addressed regional connections. They noted that they established their respective state regions based on their ability to deliver services. They did not establish regions based on time zones or “stream of commerce.”

Notice of Proposed Rulemaking

On November 28, 2006, DOT published a Notice of Proposed Rulemaking (NPRM) (71 FR 68777) proposing to move the time zone boundary for Pulaski County. Based on the Amended Petition and the supporting data submitted with it, DOT found that Pulaski County provided enough information to justify proposing to change its time zone boundary from the Central Time Zone to the Eastern Time Zone.

To aid us in our consideration of whether a time zone change would be “for the convenience of commerce,” we asked for comments on the impact on commerce of a change in the time zone and whether a new time zone would improve the convenience of commerce. We requested that commenters address the impact on such things as economic, cultural, social, and civic activities and how time zone changes affect businesses, communication, transportation, and education. We specifically invited comment from neighboring Indiana counties and counties in other States that may also be impacted by changing Pulaski County's time zone boundary.

We provided 30 days for public comments in this proceeding and said that we would consider late comments to the extent practicable.

Comments to the Docket

An Overview

There were over 100 comments submitted in response to the NPRM, several with multiple signatures. Elected officials from Pulaski County commented to the DOT docket. Each of the three Pulaski County Commissioners filed comments as did the Winamac Town Council. There were comments from various large and small business interests, including farming, real estate, tax services, the food industry, and banks, all voicing support of either the Eastern or Central Time Zone based on operational issues and/or employee preferences. There were also comments from individuals, expressing their personal interests and preferences, as well as their views on how a time zone change would be for the convenience of commerce. While the majority of the commenters were from Pulaski County residents, there were commenters from White and Starke Counties, counties to the south and north of Pulaski County respectively, and from Seattle, Washington.

The overwhelming majority of the commenters (93%) supported changing the time zone boundary for Pulaski County back to the Eastern Time Zone. The Pulaski County Commissioners, filing individual comments, supported a change to eliminate confusion for residents and unite with neighboring counties in the Eastern Time Zone. In support of the Eastern Time Zone for the Pulaski County, the Winamac Town Council said it would benefit the surrounding counties, school corporations, commuting residents, and that it would be helpful for the local government to be on the same time as the state government in Indianapolis. Most businesses commented on how a change back to the Eastern Time Zone would allow them more time during regular business hours to be in contact with suppliers and customers who are in the Eastern Time Zone. Two businesses sent in petitions with the names and signatures of over 200 individuals who “desire to be on the same time as our surrounding counties” and “would also prefer to be on the same time as our state capitol.” Individuals said “it would be a hardship to have our county on a different time than the majority of the surrounding counties.” Sharing the views of business, individuals also noted an interest in being in the same time zone as Indianapolis. Still other commenters expressed preference for the Eastern Time Zone so that they could enjoy more daylight in the evenings for recreational activities.

The commenters who favored Central Time referred to a variety of reasons to support their position. Some mentioned current work and growing markets in the greater Chicago metropolitan area, which observes Central Time. Others noted the benefits of extra daylight in the early morning. Still others suggested Pulaski County really should try to observe Central Time, saying businesses never made a change from Eastern to Central Time, but merely adjusted hours of operation and called it “Commerce Time.” One Pulaski County resident noted that Starke County has “survived” the move to the Central Time Zone “quite well.” A Starke County resident stated that Pulaski should remain on Central Time with Starke. A few Central Time Zone supporters expressed concern that support for Central Time “has been stifled” and that “supporters of Central have been lampooned.”

There were several commenters who expressed a “One State, One Time” position, some favoring the Eastern Time Zone and others preferring the Central Time Zone. Because Pulaski County borders on counties in the both the Eastern and Central Time Zones, commenters noted the hardship that split time zones have on school children, during their academic day and after school. At least one commenter suggested dividing the State “down the middle.” DOT does not have a statewide proposal before it nor has the Indiana legislature endorsed such an approach. It is beyond the scope of this proceeding, therefore, to consider this broader change to the State's time zone boundaries.

A few commenters requested that DOT eliminate Daylight Saving Time. Federal law provides that it is up to an individual State to decide whether to observe Daylight Saving Time. This final rule does not change the 2006 decision of the Indiana legislature that the entire State observe Daylight Saving Time.

In summary, as compared to 71 commenters to the docket in the first time zone proceeding, there were 272 commenters in this proceeding. Of these comments, 255 favored the Eastern Time Zone and 15 favored the Central Time Zone. Of these commenters, a few also expressed interest in having Indiana in the same time zone. In addition, 2 commenters expressed interest in having Indiana on the same time zone, expressing no preference.

We now consider comments addressing the questions that DOT asks to decide whether a time zone change would serve the convenience of commerce.

Community Imports and Exports

Based upon the information submitted with the Amended Petition, the NPRM noted that it appears that the vast majority of the County's businesses and industries have their suppliers, customers and marketing connections with areas that are in the Eastern Time Zone and therefore, that moving the time zone boundary for Pulaski County to the Eastern Time Zone would serve the convenience of commerce. In proposing a change back to the Eastern Time Zone, the NRPM referred to the Amended Petition's extensive information regarding the sources of supplies and raw materials for major businesses and industries as well as the distribution points for their products and services. For example, the Joint Petition referred to the high production ranking in the state for corn and soybeans and that the inputs for these crops come from the Eastern Time Zone and that 85% of the marketing for these products occurs in the Eastern Time Zone. It also noted that agricultural fertilizer and chemical dealers marketing to the County are in the Eastern Time Zone. The markets for livestock, poultry and dairy products are in the Eastern Time Zone. The Amended Petition also noted the County's two financial institutions, both of which have branches in the Eastern and Central Time Zones. Exhibits to the Joint Petition provided data to support these claims. DOT solicited further information that would aid in determining whether a change in the time zone for Pulaski County would serve the convenience of commerce.

Several businesses, large and small, commented that the impact of being in the Central Time Zone was the loss of time to contact customers and suppliers in the Eastern Time Zone. They noted that they are losing an hour of “prime time” in the morning in reaching the Eastern Time Zone, and that they also lost contact availability around lunch time and the end of the day.

One small business with customers in White, Pulaski, Cass, and Fulton Counties noted that only Pulaski County was currently located in the Central Time Zone and it would ease problems with billing times if all its customers were in the same time zone. Another small company commented that moving to the Eastern Time Zone would benefit the company's drivers who must arrive at job sites around the state in Eastern Time Zone locations by 7:00 a.m.

Representatives of several banks, from Presidents to branch managers, submitted comments in support of the Eastern Time Zone. One noted that the majority of the bank's business came from the Eastern Time Zone and that most of its branch offices were also in the Eastern Time Zone. Placement in the Central Time Zone resulted in being “out of sync” with the rest of their organizations. It had a direct effect on inter-office computer programming, dispatching, appointments, and personnel scheduling. Another bank representative mentioned operational difficulties and problems for employees in supporting a move to the Eastern Time Zone. That bank representative also took a broader perspective and said the bank supports the Eastern Time Zone “to be with the majority of the state.”

Television and Radio Broadcasts

In the NPRM, DOT noted that it was unable to determine whether the television and radio broadcasting aspect of the convenience of commerce standard supported a change in Pulaski County's time zone based on the Amended Petition. The Amended Petition provided information regarding television and radio broadcasting to cities in Pulaski County. It referred to Pulaski County's place in the South Bend/Elkhart Designated Market Area (DMA), noting that 8 of the 10 counties in the DMA were in the Eastern Time Zone. The Amended Petition maintained that having a part of the DMA in a different time zone makes it more difficult to timely report local news and that most of the news broadcasters covering local news are centered in the Eastern Time Zone. The Amended Petition also discussed cable TV service, Direct TV service, DISH Network, and the use of TV antennas. With regard to radio broadcasting, the Amended Petition provided a list of all Indiana radio stations, but did not indicate the strength of the radio signals in Pulaski County. DOT sought comment on the information submitted and requested any additional information on television and radio broadcasting in Pulaski County that would aid in determining whether a time zone change for Pulaski County would serve the convenience of commerce.

Few comments submitted to the docket in response to the NPRM addressed this aspect of the convenience of commerce standard. The owner of a Winamac business mentioned, “The bulk of our local media is in the eastern time zone” and spending “several thousand dollars a year on TV advertising.” A Pulaski County resident commented that the County is “more oriented” to the Eastern Time Zone media markets than to the Central Time Zone. A visitor to the County noted “the TV stations are mixed, the weather channel local weather is from Valpariso (central) the local radio station is in Knox (central).” A student favored the Central Time Zone because, on Eastern Time, TV shows would be on an hour later.

Newspapers

In the NPRM, DOT noted that it appears that moving the time zone boundary for Pulaski County to the Eastern Time Zone would serve the convenience of commerce based on the information submitted in the Amended Petition with regard to newspapers that serve the community. The Amended Petition provided data on newspaper circulation numbers in Pulaski County and discussed the circulation of Pulaski County's two family-owned newspapers. The Amended Petition also showed Pulaski County subscribers of Eastern and Central Time Zone newspapers. DOT sought comment on the information submitted and requested any additional information on newspaper circulation in Pulaski County that would aid in determining whether changing the time zone for Pulaski County would serve the convenience of commerce.

The editor of the Francesville Tribune, one of two Pulaski County-based newspapers, submitted a comment in support of the change to the Eastern Time Zone. In addition to expressing her opinion on the benefits of a time zone change for students, parents, hospitals, and patients, she stated, “A large majority of our customers and advertisers are already in the eastern time zone and therefore communication must be done on eastern hours.” The editor of the ExPress, “Pulaski County's most read and respected paper,” also submitted a comment in support of a change to the Eastern Time Zone, but did not comment upon the impact of time zone on the newspaper industry.

Bus and Passenger Rail Services

As noted in the NPRM, DOT was unable to determine whether the bus and passenger rail services aspect of the convenience of commerce standard supports a change in Pulaski County's time zone based on the information submitted in the Amended Petition. The Amended Petition referred to the nearest bus and rail stations for north/south and east/west in support of the Eastern Time Zone, although the Amended Petition admitted, “The use of rail or bus services by Pulaski County residents is unknown.” DOT sought comment on the information submitted and requested any additional information on bus and rail services in Pulaski County that would aid in determining whether a time zone change for Pulaski County would serve the convenience of commerce.

Although a few commenters generally referred to transportation, no comments were submitted that referred to bus and passenger rail service.

Airports/Airline Services

In the NPRM, DOT stated that it was unable to determine whether the airports/airline aspect of the convenience of commerce standard supports a change in Pulaski County's time zone based on the information submitted in the Amended Petition. The Amended Petition identified three airports that could potentially serve Pulaski County residents: Indianapolis International Airport, 99 miles from the County; Chicago O'Hare, 124 miles from the County; and South Bend Regional Airport, 68 miles from the County. The Amended Petition admitted that “no reliable information is available to demonstrate the number of Pulaski County residents who are airline passengers to and from Chicago and Indianapolis,” but referred to the County's largest employer, noting that both staff and customers use the Indianapolis Airport. The Amended Petition also referred to the operations of package delivery services by FedEx and UPS, with hubs in the Eastern Time Zone. DOT sought comment on the information submitted and requested any additional information on airport and airline services in Pulaski County that would aid in determining whether changing the time zone for Pulaski County would serve the convenience of commerce.

As noted above, a few commenters generally referred to transportation. There were no comments, however, concerning airports/airline services.

Worker Commuting Patterns

Based upon the information submitted with the Amended Petition with regard to worker commuting patterns, the NPRM noted that it appears that moving the time zone boundary for Pulaski County to the Eastern Time Zone would serve the convenience of commerce. The Amended Petition stated that, according to STATS Indiana Annual Commuting Trends Profile, 2004, 77% of Pulaski County residents who work do so in the County and 13% of the workforce comes from other counties. Of those coming into the County to work, more come from the Eastern Time Zone than the Central Time Zone. The Amended Petition summed up worker commuting by stating, “Of those migrating in to work, the majority come from the Eastern Time Zone. Of those going out of the County to work, a lesser number go to the Central Time Zone than the Eastern Time Zone.” DOT solicited further information and data supporting or rebutting the information supplied by the Amended Petition and how it supports a change in the time zone for the convenience of commerce.

A few commenters referenced worker commuting patterns generally to favor a move to the Eastern Time Zone. Some were businesses discussing employee home and work locations. Others were individuals commenting on their personal experience. No commenters claimed that worker commuting patterns supported remaining in the Central Time Zone.

The Community's Economy/Economic Development

Based upon the information submitted with the Amended Petition with regard to economic development, the NPRM noted that it appears that moving the time zone boundary for Pulaski County to the Eastern Time Zone would serve the convenience of commerce. The Amended Petition stated, “Outside of its borders Pulaski County is not a ‘hub’ for the regional economy. It is a peripheral player.” In support of this assertion, the Amended Petition referred to a study undertaken by the Pulaski County Community Development Commission that states that the employment in the County “is highly concentrated in agriculture, manufacturing, and government.” DOT solicited further information and data supporting or rebutting the information supplied by the Amended Petition and how it supports a change in the time zone for the convenience of commerce.

In response to the NPRM, the Executive Director of the Pulaski County Community Development Commission expressed his support for the Eastern Time Zone, based on “a year of experience in working with this issue.” He noted that “the majority” of the Commission's “contacts and clients favor the Eastern Time Zone.” A member of the Pulaski County Community Development Commission expressed a different view, favoring the Central Time Zone. He noted that his company sees “growth in the markets to the greater Chicago land areas, all of which observe Central Time” and that “growth will come as a result of the continued growth of Chicago, Valparaiso, and Rensselaer.”

Several agri-businesses submitted comments favoring the Eastern Time Zone, noting the agri-business community “relies on several businesses to open early to provide goods and services to * * * local and surrounding communities. It is best for all of these related businesses to be on the same time zone to communicate with one another as needed.”

Schooling, Recreation, Health Care, or Religious Worship

Based on the information submitted in the Amended Petition with regard to higher education and recreation and possibly health care, the NPRM noted that it appears that moving the time zone boundary for Pulaski County to the Eastern Time Zone would serve the convenience of commerce. The NPRM also noted that it is unclear whether a time zone boundary change would serve primary and secondary education. DOT sought comment on the information submitted and requested additional information on schooling as it relates to the school districts that cover Pulaski County. DOT also requested comments on any other recreational activities that would be relevant to this proceeding, on whether the home health care visits by county of residence noted on page 24 of the Amended Petition were based on a per person or per visit basis, and on a time zone change and its effect on religious worship, if any.

The Amended Petition noted that there are four school districts that cover Pulaski County, serving Pulaski County and counties in the Eastern and Central Time Zones. The Amended Petition provided detailed information on the number of students in each school district and the county of residence for the faculty. In addition, it included detailed information on the athletic programs and events scheduled in Eastern and Central Time Zone counties. With regard to higher education, the Amended Petition asserted that the employees of businesses encouraging additional schooling and high school graduates unable to afford campus life will have limited opportunities if Pulaski County were to remain in the Central Time Zone. The Amended Petition noted six of the eight colleges and universities within 50 miles are located in the Eastern Time Zone.

In response to the NPRM request for comments on the impact of a time zone change with regard to schooling, the Superintendent of Schools for the Eastern Pulaski Community School Corporation wrote favoring the Eastern Time Zone, “in the best interest of * * * students, parents, staff, and community.” He noted the schools “interact with those counties in the Eastern Time Zone far more than counties in the Central Time Zone.” He referred specifically to special education students commuting to Logansport and students from Fulton County in the Eastern Time Zone. Several businesses submitted comments in favor of the Eastern Time Zone due to the negative impact of the Central Time Zone on their workers who had school children. Parents, too, wrote in support of the Eastern Time Zone based on their children commuting to schools in the Eastern Time Zone. On the other hand, one commenter who favored the Central Time Zone noted that “West Central has several students who live in Jasper County (central time zone) they also have students that they transport to Rensselaer (central).” However, as one commenter who favored Central Time stated, “no matter what is decided, someone is going to have to deal with students being in different time zones.” A student favored the Central Time Zone so that his father could attend his sporting events. DOT specifically requested comments from the Fulton, Marshall, Starke, and Jasper Counties that are in the same school districts as Pulaski County, but did not receive any comments from these counties.

With regard to recreation, the Amended Petition stated, “Indiana is unique in its observance of college and high school basketball as a main source of family entertainment.” The Amended Petition noted that five out of the six colleges noted for collegiate sports within 100 miles of Pulaski County are in the Eastern Time Zone. The Amended Petition also noted that with regard to professional football and basketball, there is an equal split between the Eastern and Central Time Zones.

With regard to health care, the Amended Petition provided substantial information on the activities of Pulaski Memorial Hospital, which the Amended Petition identifies as “the primary health care provider in Pulaski County” and its second largest employer. Commenting on in-patient and out-patient referrals, practitioners and specialty group physicians, and in-home health care, the Amended Petition asserted, “Pulaski Memorial Hospital activities, with one (1) exception point to the Eastern Time Zone.” It supported this assertion with detailed statistics.

In response to the NPRM's request for comments with regard to health care, the Chief Executive Officer submitted comments to the docket on behalf of the Pulaski Memorial Hospital Board of Trustees and the hospital's medical staff, supporting a change back to the Eastern Time Zone. He noted a “significant number of physicians who have a part time clinical practice in Winamac but whose main practice locations are in other towns in the Eastern Time Zone would be adversely affected” if Pulaski County were in the Central Time Zone. He further noted, “Reasonable access by the citizens of Pulaski County to high quality specialized medical and surgical care is dependent upon these physicians * * *” A family physician commented that “90% of the people and organizations both business and nonprofit that I deal with are on eastern time.” Another family physician noted his medical referrals are “almost exclusively oriented” to the Eastern Time Zone. A nurse practitioner noted that “patients are confused as to what time it is,” resulting in missed appointments. A doctor of optometry supported the Eastern Time Zone for patient scheduling purposes, patient referrals, and for buying materials and supplies. Individuals commented on their primary physicians, specialists, and dentists in the Eastern Time Zone.

The Amended Petition did not address religious worship. In response to DOT's request for comments on this aspect of the convenience of commerce standard, a few commenters mentioned time zone differences with regard to going to church services. Two religious organizations submitted comments on the impact of time zone on religious worship, supporting the Eastern Time Zone. The church leader of Grace International Ministries doing business as Church of the Heartland noted that the Church has over 400 members “involved in 5 counties with 5 campus locations.” He stated, “For the sake of scheduling services, travel and for convenience of parishioners and staff, it would greatly enhance our ministries if Pulaski were moved to the Eastern Time Zone.” The Pastor of the Fellowship Baptist Church noted its members lived in the Eastern Time Zone, with only one family living in Starke County in the Central Time Zone and the rest living in either Pulaski County or Fulton, Cass, or White Counties in the Eastern Time Zone.

Regional Connections

Based on the information submitted in the Amended Petition with regard to regional connections, the NPRM noted that it appears that moving the time zone boundary for Pulaski County to the Eastern Time Zone would serve the convenience of commerce. The Amended Petition referred to regions established by the State of Indiana and said, “These regions are properly regarded as regions for the administrative ease of delivering governmental services and should not be relied upon as decisive evidence of what time zone best serves the commercial convenience of Pulaski County. Regardless of where Pulaski County is placed in state government regions, Pulaski County is fundamentally different as a rural county and on the periphery from the major cities that comprise the hub of these regions.” It further stated, “A rational basis can be asserted for including Pulaski County in a time zone that serves commercial convenience focusing on small rural populations with an agricultural/small manufacturing economy. This informal region would include the counties of Fulton, Pulaski, White, Jasper, and Newton.”

Regional connections are also addressed in letters from the Indiana Economic Development Corporation and the Indiana Department of Workforce Development. They noted that they established their respective regions based on their ability to deliver services. They did not establish regions based on time zones or “stream of commerce.” The data from STATS Indiana concerning employment and earnings by industry identified the source of the information as the Bureau of Economic Analysis (BEA), which produces economic statistics to help government and business decision-makers, researchers, and the American public to follow and understand the performance of the Nation's economy. Pulaski County is in BEA area 156 with other counties that are in the Eastern Time Zone (Elkhart, Fulton, Kosciusko, Lagrange, Marshall, St. Joseph Counties in Indiana and Berrien, Cass, and St. Joseph Counties in Michigan), with the exception of Starke County. Starke County, like Pulaski County, petitioned to have its time zone boundary changed to the Central Time Zone and DOT granted that petition and changed the time zone in January 2006. Starke County did not seek to change its time zone boundary back to the Eastern Time Zone. DOT sought comment on the information submitted and requested any additional information concerning regional connections that would aid in determining whether changing the time zone for Pulaski County would serve the convenience of commerce.

As noted above, the Indiana Economic Development Corporation and the Indiana Department of Workforce Development submitted letters to the docket prior to the NPRM, addressing regional connections. They noted that they established their respective state regions based on their ability to deliver services. They did not establish regions based on time zones or “stream of commerce.” A few commenters to the NPRM referred to connections with the surrounding counties in the Eastern Time Zone. These commenters did not provide any detailed information.

DOT Determination

Based upon the Amended Petition, information submitted with the Amended Petition, and comments submitted in response to the NPRM, DOT is relocating the time zone boundary for Pulaski County from the Central Time Zone to the Eastern Time Zone.

Pulaski County addressed all the factors we consider in these proceedings and made a convincing case that changing back to the Eastern Time Zone would serve the convenience of commerce by providing more detailed and substantiated information than the original petition and comments submitted. Written comments supported moving Pulaski County to the Eastern Time Zone. We did not receive any additional information that would persuade us to change our initial determination as proposed in the November 2006 NPRM.

DOT is unable to determine whether the transportation-related aspects (rail/bus/airports/airline services) of the convenience of commerce standard as well as the television/radio broadcast aspects of the standard support a change in Pulaski County's time zone. However, that the vast majority of the County's businesses and industries have their suppliers, customers, and marketing connections with areas that are in the Eastern Time Zone. Commenters addressing this issue make a strong case for the Eastern Time Zone. Newspapers that serve the community, worker commuting patterns, higher education, recreation, health care concerns as well as regional connections appear to favor the Eastern Time Zone.

Conclusion

In our experience, time zone boundary changes can be extremely disruptive to a community and, therefore, should not be made without careful consideration. Both for legal and policy reasons, the truthfulness of information submitted to the United States government is of critical importance. Indeed, it is legally required under 18 U.S.C. 1001, as we reminded the County officials in our May 22, 2006, that preceded the Amended Petition. DOT takes seriously the review of any petition seeking a change in time zone boundaries and relies upon the accuracy of data and information supporting the petition. Therefore, we have relied upon the new information and data provided by the County and other commenters and expect it to be both accurate and truthful. DOT devoted an extensive amount of time in analyzing the original petition and issuing a final rule to change the time zone boundary for Pulaski County to the Central Time Zone and to this proceeding changing the time zone boundary back to the Eastern Time Zone. We have determined that a change in the time zone boundary to the Eastern Time Zone serves the convenience of commerce, and we expect the County and its citizens to comply with this final rule.

Regulatory Analysis & Notices

This final rule is not a “significant regulatory action” under section 3(f) of Executive Order 12866 and does not require an assessment of potential costs and benefits under section 6(a)(3) of that Order. It has not been reviewed by the Office of Management and Budget under that Order. It is not “significant” under the regulatory policies and procedures of the Department of Transportation (44 FR 11040; February 26, 1979). We expect the economic impact of this final rule to be so minimal that a full Regulatory Evaluation under paragraph 10e of the regulatory policies and procedures of DOT is unnecessary. The rule primarily affects the convenience of individuals in scheduling activities. By itself, it imposes no direct costs. Its impact is localized in nature.

Small Entities

Under the Regulatory Flexibility Act (5 U.S.C. 601-612), we considered whether this final rule would have a significant economic impact on a substantial number of small entities. The term “small entities” comprises small businesses, not-for-profit organizations that are independently owned and operated and are not dominant in their fields, and governmental jurisdictions with populations of less than 50,000. This rule primarily affects individuals and their scheduling of activities. Although it would affect some small businesses, not-for-profits and, perhaps, a number of small governmental jurisdictions, we have not received comments asserting that our proposal, if adopted, would have a significant economic impact on small entities.

Therefore, I certify under 5 U.S.C. 605(b) that this final rule does not have a significant economic impact on a substantial number of small entities. Under section 213(a) of the Small Business Regulatory Enforcement Fairness Act of 1996 (Pub. L. 104-121), we want to assist small entities in understanding this rule so that they can better implement it.

Collection of Information

This final rule does not call for a new collection of information under the Paperwork Reduction Act of 1995 (44 U.S.C. 3501-3520).

Federalism

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

Unfunded Mandates

The Unfunded Mandates Reform Act of 1995 (2 U.S.C. 1531-1538) and E.O. 12875, Enhancing the Intergovernmental Partnership (58 FR 58093; October 28, 1993), govern the issuance of Federal regulations that impose unfunded mandates. An unfunded mandate is a regulation that requires a State, local, or tribal government or the private sector to incur direct costs without the Federal Government's having first provided the funds to pay those costs. This final rule would not impose an unfunded mandate.

Taking of Private Property

This final rule does not result in a taking of private property or otherwise have taking implications under E.O. 12630, Governmental Actions and Interference with Constitutionally Protected Property Rights.

Civil Justice Reform

This final rule meets applicable standards in sections 3(a) and 3(b)(2) of E.O. 12988, Civil Justice Reform, to minimize litigation, eliminate ambiguity, and reduce burden.

Protection of Children

We have analyzed this final rule under E.O. 13045, Protection of Children from Environmental Health Risks and Safety Risks. This rule is not an economically significant rule and does not concern an environmental risk to health or risk to safety as defined by the Executive Order that may disproportionately affect children.

Environment

This rulemaking is not a major Federal action significantly affecting the quality of the human environment under the National Environmental Policy Act and, therefore, an environmental impact statement is not required.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 71

Time zones.

For the reasons discussed above, the Office of the Secretary amends Title 49 part 71 to read as follows:

PART 71—[AMENDED]

1. The authority citation for part 71 continues to read as follows:

Authority: Secs. 1-4, 40 Stat. 450, as amended; sec. 1, 41 Stat. 1446, as amended; secs. 2-7, 80 Stat. 107, as amended; 100 Stat. 764; Act of Mar. 19, 1918, as amended by the Uniform Time Act of 1966 and Pub. L. 97-449, 15 U.S.C. 260-267; Pub. L. 99-359; Pub. L. 106-564, 15 U.S.C. 263, 114 Stat. 2811; 49 CFR 1.59(a).

2. Paragraph (b) of § 71.5, Boundary line between eastern and central zones, is revised to read as follows:

§ 71.5 Boundary line between eastern and central zones.

* * * * *

(b) Indiana-Illinois. From the junction of the western boundary of the State of Michigan with the northern boundary of the State of Indiana easterly along the northern boundary of the State of Indiana to the east line of LaPorte County; thence southerly along the east line of LaPorte County to the north line of Starke County; thence east along the north line of Starke County to the west line of Mashall County; thence south along the west line of Marshall County; thence west along the north line of Pulaski County to the east line of Jasper County; thence south along the east line of Jasper County to the south line of Jasper County; thence west along the south lines of Jasper and Newton Counties to the western boundary of the State of Indiana; thence south along the western boundary of the State of Indiana to the north line of Knox County; thence easterly along the north line of Knox, Daviess, and Martin Counties to the west line of Lawrence County; thence south along the west line of Lawrence, Orange, and Crawford Counties to the north line of Perry County; thence easterly and southerly along the north and east line of Perry County to the Indiana-Kentucky boundary.

* * * * *

Issued in Washington, DC on: February 5, 2007.
Mary E. Peters,
Secretary.

[FR Doc. 07-601 Filed 2-6-07; 4:10 pm]

BILLING CODE 4910-62-P